DEPARTMENT OF DEFENSE

Department of the Army

Privacy Act of 1974; System of Records

AGENCY: Department of the Army.

ACTION: Notice to add a system of records.

SUMMARY: The Department of the Army is adding a system of records notice to its existing inventory of record systems subject to the Privacy Act of 1974, (5 U.S.C. 552a), as amended.

DATES: This proposed action will be effective without further notice on September 22, 2004 unless comments are received which result in a contrary determination.

ADDRESSES: Send comments to the Department of the Army, Freedom of Information/Privacy Act Office, 7701 Telegraph Road, Alexandria, VA 22315-3905.

FOR FURTHER INFORMATION CONTACT: Ms. Janice Thornton at (703) 428-6504.

SUPPLEMENTARY INFORMATION: The Department of the Army systems of records notices to the Privacy Act of 1974, (5 U.S.C. 552a), as amended, have been published in the Federal Register and are available from the address above.

The proposed system report, as required by 5 U.S.C. 552a(r) of the Privacy Act of 1974, as amended, was submitted on August 13, 2004, to the House Committee on Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: August 17, 2004.
L.M. Bynum,
Alternate OSD Federal Register Liaison Officer, Department of Defense.

A0055 USEUCOM

SYSTEM NAME:

Europe Command Travel Clearance Records.

System location:

Headquarters, United States European Command, Computer Network Operations Center, Building 2324, P.O. Box 1000, APO AE 09131-1000.

Categories of individuals covered by the system:

Military, DoD civilians, and non-DoD personnel traveling under DoD sponsorship (e.g., contractors, foreign nationals and dependents) and includes temporary travelers within the United States European Command's (USEUCOM) area of responsibility as defined by the DoD Foreign Clearance Guide Program.

Categories of records in the system:

Travel requests, which contain the individual's name; rank/pay grade; Social Security Number; military branch or department; passport number; Visa Number; office address and telephone number, official and personal email address, detailed information on sites to be visited, visitation dates and purpose of visit.

Authority for the maintenance of the system:

10 U.S.C. 3013, Secretary of the Army; 10 U.S.C. 5013, Secretary of the Navy; 10 U.S.C. 8013, Secretary of the Air Force; DoD 4500.54-G, Department of Defense Foreign Clearance Guide; Public Law 99-399, Omnibus Diplomatic Security and Antiterrorism Act of 1986; 22 U.S.C. 4801, 4802, and 4805, Foreign Relations and Intercourse; E.O. 12333, United States Intelligence Activities; Army Regulation 55-46, Travel Overseas; and E.O. 9397 (SSN).

Purpose(s):

To provide the DoD with an automated system to clear and audit travel within the United States European Command's area of responsibility and to ensure compliance with the specific clearance requirements outlined in the DoD Foreign Clearance Guide; to provide individual travelers with intelligence and travel warnings; and to provide the Defense Attaché and other DoD authorized officials with information necessary to verify official travel by DoD personnel.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To the Department of State Regional Security Officer, U.S. Embassy officials, and foreign police for the purpose of coordinating security support for DoD travelers.

The DoD ‘Blanket Routine Uses’ set forth at the beginning of the Army's compilation of systems of records notices also apply to this system.

Policies and practices for storing, retiring, accessing, retaining, and disposing of records:

Storage:

Electronic storage media.

Retrievability:

Retrieved by individual's surname, Social Security Number and/or passport number.

Safeguards:

Electronic records are located in the United States European Command's Theater Requirements Automated Clearance System (TRACS) computer database with built in safeguards. Computerized records are maintained in controlled areas accessible only to authorized personnel with an official need to know access. In addition, automated files are password protected and in compliance with the applicable laws and regulations. Another built in safeguard of the system is records access to the data through secure network.

Retention and disposal:

Records are destroyed 3 months after travel is completed.

System manager(s) and address:

Special Assistant for Security Matters, Headquarters, United States European Command, Unit 30400, P.O. Box 1000, APO AE 091-1000.

Notification procedures:

Individuals seeking to determine whether information about themselves is contained in this system of records should address written inquiries to the Special Assistant for Security Matters, Headquarters, United States European Command, Unit 30400, P.O. Box 1000, APO AE 09131-1000.

Requests should contain individual's full name, Social Security Number, and/or passport number.

Record access procedures:

Individuals seeking to access information about themselves that is contained in this system of records should address written inquiries to the Special Assistant for Security Matters, Headquarters, United States European Command, Unit 30400, P.O. Box 1000, APO AE 09131-1000.

Requests should contain individual's full name, Social Security Number, and/or passport number.

Contesting record procedures:

The Army's rules for accessing records and for contesting contents and appealing initial agency determinations are contained in Army Regulation 340-21; 32 CFR part 505; or may be obtained from the system manager.

Record source categories:

From individuals.

Exemptions claimed for the system:

None.

[FR Doc. 04-19187 Filed 8-20-04; 8:45 am]

BILLING CODE 5001-06-M